DEPARTMENT OF AGRICULTURE

Animal and Plant Health Inspection Service

[Docket No. APHIS-2007-0026]

Public Meetings; National Animal Identification System Animal Identification Number Device Distribution Databases

AGENCY: Animal and Plant Health Inspection Service, USDA.

ACTION: Notice of public meetings.

SUMMARY: This is a notice to inform interested stakeholders of upcoming public meetings to discuss the implementation of private/State animal identification number device distribution databases for the animal identification component of the National Animal Identification System, which is a voluntary program. The meetings are being organized by the Animal and Plant Health Inspection Service.

DATES: Two meetings will be held, the first on Monday, March 5, 2007, from 1 p.m. to 6 p.m., and Tuesday, March 6, 2007, from 8 a.m. to noon, and the second on Monday, March 12, 2007, from 1 p.m. to 6 p.m., and Tuesday, March 13, 2007, from 8 a.m. to noon.

ADDRESSES: The public meetings will be held in the Hilton Kansas City Airport, 8801 NW. 112th Street, Kansas City, MO.

FOR FURTHER INFORMATION CONTACT: Mr. Neil Hammerschmidt, Coordinator, National Animal Identification System, VS, APHIS, 4700 River Road Unit 200, Riverdale, MD 20737-1231; (301) 734-5571.

SUPPLEMENTARY INFORMATION: As part of ongoing efforts to safeguard animal health, the U.S. Department of Agriculture (USDA) initiated implementation of the National Animal Identification System (NAIS) in 2004. The NAIS is a cooperative State-Federal-industry program coordinated by USDA's Animal and Plant Health Inspection Service (APHIS).

The first two components of the program, premises registration and animal identification, are well underway. The third component, animal tracing, is currently under development by APHIS and its State and industry partners. Industry, through private systems, and States will manage the animal tracking databases (ATDs) that maintain the movement records of animals. These information systems will provide the locations of a subject animal and the records of other animals that the subject animal came into contact with at each premises. Currently, we have cooperative agreements with 14 organizations that are participating by managing interim ATDs.

The NAIS is a voluntary program, and protecting individuals' private information and confidential business information is important to APHIS and to all participants and potential participants in the system. APHIS maintains only limited premises registration information and will not have direct access to animal identification or movement records. Animal health officials will request access to animal movement and location records only in the case of an animal disease event.

In keeping with this policy, the records of animal identification number (AIN) devices distributed to a premises when used for voluntary participation in the NAIS will be held by private entities and organizations or by States in AIN device distribution databases (AIN DDDs), rather than in APHIS's AIN Management System. This program change is, we believe, an important one that will serve to encourage participation in the voluntary animal identification component of the NAIS.

While AIN tags used for disease and/or regulatory programs such as the National Scrapie Eradication Program will continue to be administered through the AIN Management System, the distribution records of AIN devices to producers that voluntarily participate in the NAIS will not be maintained on that system. APHIS will continue to approve identification devices for official use in the NAIS and establish agreements with the manufacturers for the authorized use of the AIN. Producers will continue to need a premises identification number to obtain AIN tags. The revised system will still maintain the data requirements of the AIN Management System, but the records of AINs distributed to each premises will be held privately or by the States. The AIN DDDs will be integrated with the NAIS in a manner similar to the one used for the integration of private and State ATDs into our Animal Trace Processing System (ATPS).

Authorized Federal and State animal health officials will need access to some of the animal tracking and animal identification information to be held in the privately or State-administered databases in certain situations. APHIS has defined the situations that would trigger the authorization for animal health officials to request information from AIN DDDs through the ATPS as follows:

1. An indication of (suspect, presumptive positive, etc.) or confirmed positive test for a foreign animal disease;

2. An animal disease emergency as determined by the Secretary of Agriculture and/or State Departments of Agriculture; and

3. The need to conduct a traceback/traceforward to determine the origin of infection for a program disease (brucellosis, tuberculosis, etc.).

The transition to the private and State AIN DDDs is expected to begin in April 2007. Therefore, in order to provide a forum for the discussion of issues related to privately and State-administered AIN DDDs, APHIS is holding two public meetings. Interested private organizations and State agencies that have databases that could integrate with the NAIS as AIN DDDs are encouraged to attend. Other stakeholders, such as producers and AIN tag manufacturers, device managers, and resellers, are also encouraged to participate. APHIS has approved AIN devices from several manufacturers. Producers can request AIN devices directly from these AIN tag manufacturers or from the AIN device managers or resellers who have marketing agreements with the authorized manufacturers. Additional companies and individuals may become engaged in the distribution of AIN devices. Because each of these groups and entities has a role in the distribution of AIN devices, a process that will be affected by this transition to State and private AIN DDDs, these entities too should consider participating in the meetings even if they do not plan on providing AIN DDDs.

The first of the two public meetings is scheduled for Monday, March 5, 2007, from 1 p.m. to 6 p.m., and Tuesday, March 6, 2007, from 8 a.m. to noon. The second meeting is scheduled for Monday, March 12, 2007, from 1 p.m. to 6 p.m., and Tuesday, March 13, 2007, from 8 a.m. to noon. Information regarding the meetings may be obtained from the person listed under FOR FURTHER INFORMATION CONTACT.

Done in Washington, DC, this 23rd day of February 2007.
Kevin Shea,
Acting Administrator, Animal and Plant Health Inspection Service.

[FR Doc. E7-3509 Filed 2-27-07; 8:45 am]

BILLING CODE 3410-34-P